NUCLEAR REGULATORY COMMISSION

[Docket Nos. 50-250-LA and 50-251-LA; ASLBP No. 15-935-02-LA-BD01]

Florida Power & Light Company: Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Florida Power & Light Company (Turkey Point Nuclear Generating Units 3 and 4)

This proceeding involves an application by Florida Power & Light Company for a license amendment for Turkey Point Nuclear Generating Units 3 and 4, located in Miami-Dade County, Florida. The requested amendment seeks to revise the ultimate heat sink (UHS) water temperature limit in the Turkey Point Technical Specifications and to revise surveillance requirements for monitoring the UHS temperature and component cooling water heat exchangers. In response to a notice filed in the Federal Register, see 79 FR 47,689 (Aug. 14, 2014), a Petition to Intervene was filed initially via email on October 14, 2014, and subsequently via the Electronic Information Exchange on October 17, 2014, by Barry White on behalf of Citizens Allied for Safe Energy, Inc.

The Board is comprised of the following Administrative Judges:

Michael M. Gibson, Chairman, Atomic Safety and Licensing Board Panel, U.S. Nuclear Regulatory Commission, Washington, DC 20555-0001

Dr. Michael F. Kennedy, Atomic Safety and Licensing Board Panel, U.S. Nuclear Regulatory Commission, Washington, DC 20555-0001

Dr. William W. Sager, Atomic Safety and Licensing Board Panel, U.S. Nuclear Regulatory Commission, Washington, DC 20555-0001

All correspondence, documents, and other materials shall be filed in accordance with the NRC E-Filing rule. See 10 CFR 2.302.

Rockville, Maryland.
Dated: October 24, 2014.
E. Roy Hawkens,
Chief Administrative Judge, Atomic Safety and Licensing Board Panel.

[FR Doc. 2014-25976 Filed 10-30-14; 8:45 am]

BILLING CODE 7590-01-P